DEPARTMENT OF HEALTH AND HUMAN SERVICES

Administration for Children and Families

Proposed Information Collection Activity; Comment Request

Proposed Projects

Title: Study of the TANF Application Process.

OMB No. New Collection.

Description: The Study of the TANF Application Process is designed to provide systematic information about how application policies and processes have changed under TANF, and how States define and count applications and application results. The Study will also explore how application polices are implemented in a sample of local TANF offices and will collect data on individuals' application decisions, experiences, and outcomes. In addition, the Study will also collect information on the availability and quality of State-collected data on the TANF application process. The primary purpose of this Study is to provide useful information to be considered in the upcoming TANF reauthorization process.

Respondents: The respondents for the Mail Questionnaire are the 50 States, the District of Columbia, and the U.S. Territories of Guam, Puerto Rico, and the Virgin Islands. Eighteen States will be respondents to the State Telephone Survey, 54 individuals for the Open-ended Interviews for Case Studies, six States for Case Abstractions, and 1200 individuals for the follow-up Telephone Interviews with Applicants and Non-applicants.

Annual Burden Estimates
Instrument | Number of Respondents | Number of Responses per Respondent | Average Burden Hours per Response | Total Burden Hours
18-State Telephone Survey | 18 | 1 | 3 | 54
54-State Mail Questionaire | 54 | 1 | 6 | 324
Open-ended interview for Case Studies | 54 | 1 | 1.5 | 81
Follow-up Telephone Interview with Applicants and Non-applicants | 1200 | 1 | .33 | 396
Case abstractions—pulling case files for contractor review and abstraction | 6 | 1 | 20 | 120
Estimated Total Annual Burden Hours: |  |  |  | 975

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF.

Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 26, 2001.
Bob Sargis,
Reports Clearance Officer.

[FR Doc. 01-5009 Filed 2-28-01; 8:45 am]

BILLING CODE 4184-01-M